DEPARTMENT OF TRANSPORTATION

Federal Aviation Administration

14 CFR Part 71

[Docket No. FAA-2023-1006; Airspace Docket No. 22-AWP-65]

RIN 2120-AA66

Modification of Class E Airspace; Minden-Tahoe Airport, Minden, NV; Correction

AGENCY: Federal Aviation Administration (FAA), DOT.

ACTION: Final rule; correction.

SUMMARY: The FAA is correcting a final rule that published in the Federal Register on December 22, 2023. The final rule modified Class E airspace extending upward from 700 feet above the surface at Minden-Tahoe Airport, Minden, NV. This action corrects an error in the airspace legal description.

DATES: Effective 0901 UTC, March 21, 2024. The Director of the Federal Register approves this incorporation by reference action under 1 CFR part 51, subject to the annual revision of FAA Order 7400.11, Airspace Designations and Reporting Points, and publication of conforming amendments.

ADDRESSES: FAA Order 7400.11H, and subsequent amendments, can be viewed online at www.faa.gov//air_traffic/publications/. You may also contact the Rules and Regulations Group, Office of Policy, Federal Aviation Administration, 800 Independence Avenue SW, Washington, DC 20591; telephone: (202) 267-8783.

FOR FURTHER INFORMATION CONTACT: Keith Adams, Federal Aviation Administration, Western Service Center, Operations Support Group, 2200 S 216th Street, Des Moines, WA 98198; telephone (206) 231-2428.

SUPPLEMENTARY INFORMATION:

History

The FAA published a final rule in the Federal Register (88 FR 88528; December 22, 2023) for Docket FAA-2023-1006, which modified Class E airspace extending upward from 700 feet above the surface at the Minden-Tahoe Airport, Minden, NV. Subsequent to publication, the FAA identified that line one of the Class E airspace legal description contained the two-letter abbreviation for the state as “CA”, which was incorrect. The two-letter abbreviation of the state in line one of the legal description should be “NV”. This action corrects the error.

Correction to the Final Rule

In FR Doc 2023-28228 at 88529, published in the Federal Register on December 22, 2023, the FAA makes the following corrections:

1. On page 88529, in the second column, correct the first line of the legal description for E5 Minden, NV to read as follows:

AWP NV E5 Minden, NV [Corrected]

Issued in Des Moines, Washington, on January 5, 2024.
B.G. Chew,
Group Manager, Western Service Center, Operations Support Group.

[FR Doc. 2024-00352 Filed 1-10-24; 8:45 am]

BILLING CODE 4910-13-P